DEPARTMENT OF COMMERCE

National Oceanic and Atmospheric Administration

[RTID 0648-XF075]

Gulf Fishery Management Council; Public Meetings

AGENCY: National Marine Fisheries Service (NMFS), National Oceanic and Atmospheric Administration (NOAA), Commerce.

ACTION: Notice of public hearings and webinars.

SUMMARY: The Gulf Fishery Management Council (Gulf Council) will hold three in-person public hearings and one webinar to solicit public comments on Reef Fish Amendment 58B: Modifications to Deep-water Grouper complex changes based on the recent stock assessment for Yellowedge Grouper, Scientific and Statistical Committee recommendations, and feedback from the June 2025 Council meeting.

DATES: The public hearings will take place August 11-19, 2025. The in-person public hearings and webinar will begin at 6 p.m. and will conclude no later than 9 p.m., EDT. For specific dates and times, see SUPPLEMENTARY INFORMATION. Written public comments must be received on or before 5 p.m. EDT on August 19, 2025.

ADDRESSES: Please visit the Gulf Council website at www.gulfcouncil.org for meeting materials and webinar registration information.

Meeting addresses: The public hearings will be held in Madeira Beach, Ft. Myers, and Panama City, FL; and one virtual webinar. For specific locations, dates and times see SUPPLEMENTARY INFORMATION below.

Council address: Gulf Fishery Management Council, 4107 W Spruce Street, Suite 200, Tampa, FL 33607; telephone: (813) 348-1630.

FOR FURTHER INFORMATION CONTACT: Emily Muehlstein; Public Information Officer; emily.muehlstein@gulfcouncil.org, Gulf Fishery Management Council; telephone: (813) 348-1630.

SUPPLEMENTARY INFORMATION: The agenda for the following three in-person public hearings and webinar is as follows: Council staff will begin with a presentation on the purpose, need, and proposed management alternatives in Reef Fish Amendment 58B.

Staff and a Council member will be available to answer any questions, and the public will have the opportunity to provide testimony on the amendment and other related testimony.

In-Person Locations and Webinars

Monday, August 11, 2025; City of Maderia Beach Recreation Civic Center, 200 Rex Place, Madeira Beach, FL 33708, (727) 392-0665.

Thursday, August 14, 2025; Hilton Garden Inn, 1101 US Hwy. 231, Panama City, FL 32405, (850) 392-1093.

Monday, August 18, 2025; Doubletree by Hilton, 13051 Bell Tower Drive, Ft. Myers, FL 33907, (239) 482-2900.

Tuesday, August 19, 2025; via webinar.

Visit www.gulfcouncil.org website and click on the “meetings and public hearings” tab for registration information. After registering, you will receive a confirmation email containing information about joining the webinar.

Special Accommodations

These meetings are physically accessible to people with disabilities. Requests for sign language interpretation or other auxiliary aids should be directed to Kathy Pereira (see ADDRESSES), at least 10 working days prior to the meeting date.

(Authority: 16 U.S.C. 1801 et seq.)

Dated: July 24, 2025.
Rey Israel Marquez,
Acting Deputy Director, Office of Sustainable Fisheries, National Marine Fisheries Service.

[FR Doc. 2025-14177 Filed 7-25-25; 8:45 am]

BILLING CODE 3510-22-P